ENVIRONMENTAL PROTECTION AGENCY

[FRL-6961-6]

Gulf of Mexico Program; Policy Review Board Meeting

AGENCY: Environmental Protection Agency (EPA).

ACTION: Notice of meeting.

SUMMARY: Under the Federal Advisory Act, Public Law 92463, EPA gives notice of a meeting of the Gulf of Mexico Program (GMP) Policy Review Board (PRB).

DATES: The PRB meeting will be held on Wednesday, May 2, 2001, from 10:30 a.m. to 3:00 p.m.

ADDRESSES: The meeting will be held at the Sofitel Hotel, 425 N. Sam Houston Parkway, East, Houston, Texas 77060 (at Bush Intercontinental Airport), (281) 445-9000.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Review PRB Recommendations.

The meeting is open to the public.

Dated: March 27, 2001.
Gloria D. Car,
Designated Federal Officer.

[FR Doc. 01-8132 Filed 4-2-01; 8:45 am]

BILLING CODE 6560-50-P